DEPARTMENT OF THE INTERIOR

Fish and Wildlife Service

Availability of an Environmental Assessment and Receipt of Applications for Incidental Take Permits for the Assessment District 161 Habitat Conservation Plan in Western Riverside County, California

AGENCY: Fish and Wildlife Service, Interior.

ACTION: Notice of availability and receipt of applications.

SUMMARY: Three public agencies and nine private entities (the Applicants) have applied to the Fish and Wildlife Service for incidental take permits pursuant to section 10(a)(1)(B) of the Endangered Species Act of 1973, as amended. The Applicants are: Metropolitan Water District of Southern California; Rancho California Water District; Murrieta Valley Unified School District; Obed Properties, Incorporated; Winchester 700, Limited Liability Company; Pulte Homes Corporation; Butterfield Development Company, Incorporated; Hill Country, Limited; Buie Communities, Limited Liability Company; Crowne Meadows Limited Partnership; Parcel Five, Incorporated; and SDI Communities, Limited Liability Company. We anticipate a future application from the County of Riverside; however, we do not intend to publish a separate notice for receipt of that application because the Assessment District 161 Habitat Conservation Plan (District Plan) and our Environmental Assessment comprehensively address all applications. The Applicants request a 30-year permit that would authorize take of 21 covered species (4 listed species, and 17 unlisted species should they be listed during the term of the permit). Take would be incidental to otherwise lawful activities associated with urban development of 2,028 acres of habitat in western Riverside County, California.

We request comments from the public on the permit applications, and our Environmental Assessment, which are available for review. The permit applications include the proposed District Plan and an accompanying Implementing Agreement (legal contract). The District Plan describes the proposed project, the measures that the Applicants would undertake to minimize and mitigate take of the covered species, and the management program proposed for the conserved habitat.

We provide this notice pursuant to section 10(a) of the Endangered Species Act and National Environmental Policy Act regulations (40 CFR 1506.6). All comments that we receive, including names and addresses, will become part of the official administrative record and may be made available to the public.

DATES: We must receive your written comments on or before September 19, 2000.

ADDRESSES: Send written comments to Mr. Ken Berg, Field Supervisor, Fish and Wildlife Service, 2730 Loker Avenue West, Carlsbad, California 92008; facsimile (760) 431-5902.

FOR FURTHER INFORMATION CONTACT: Ms. Karin Cleary-Rose, Fish and Wildlife Biologist, or Ms. Michelle Shaughnessy, Supervisory Fish and Wildlife Biologist, at the above address or call (760) 431-9440.

SUPPLEMENTARY INFORMATION:

Availability of Documents

You may obtain copies of these documents for review by contacting the above office (see ADDRESSES). Documents also will be available for public inspection, by appointment, during normal business hours at the above address and at the following libraries: City of Murrieta Library, 39589 Los Alamos Road, Murrieta, California; and Temecula Branch Library, 41000 County Center Drive, Temecula, California.

Background

Section 9 of the Endangered Species Act and Federal regulation prohibit the “take” of fish or wildlife species listed as endangered or threatened, respectively. Take of listed fish or wildlife is defined under the Act to include kill, harm, or harass. The Service may, under limited circumstances, issue permits to authorize incidental take; i.e., take that is incidental to, and not the purpose of, the carrying out of an otherwise lawful activity. Regulations governing incidental take permits for threatened and endangered species are found in 50 CFR 17.32 and 17.22, respectively.

The take prohibitions of the Act do not apply to listed plants on private land unless their destruction on private land is in violation of State law. Nevertheless, the Applicants consider plants in the District Plan and request permits for them to the extent that State law applies.

The Applicants request a 30-year permit that would authorize take of 4 listed species and 17 unlisted species should they be listed during the term of the permit: endangered California Orcutt grass (Orcuttia californica); endangered Riverside fairy shrimp (Streptocephalus woottoni); endangered Quino checkerspot butterfly (Euphydryas editha quino); threatened coastal California gnatcatcher (Polioptila californicus californicus); Palmer's grapplinghook (Harpagonella palmeri); long-spined spineflower (Chorizanthe polygonoides); western spadefoot toad (Spea hammondii); San Diego horned lizard (Phrynosoma coronatum blainvillei); orange-throated whiptail lizard (Cnemidophorus hyperythrus); burrowing owl (Speotyto cunicularia); southern California rufous-crowned sparrow (Aimophila ruficeps canescens); Bell's sage sparrow (Amphispiza belli belli) grasshopper sparrow (Ammodramus savannarum); American peregrine falcon (Falco peregrinus anatus); Cooper's hawk (Accipiter cooperii); ferruginous hawk (Buteo regalis); golden eagle (Aquila chrysaetos); long-eared owl (Asio otis); merlin (Falco lineatus); sharp-shinned hawk (Accipiter strianus); and white-tailed kite (Elanus leucurus).

The District Plan area is located adjacent to the cities of Temecula and Murrieta within western Riverside County, California. Generally the District Plan area lies to the east of Interstate 15, south of Clinton Keith Road, and adjacent to Highway 79. The Southwestern Riverside Multiple Species Reserve and Lake Skinner Recreation Area are northeast of the District Plan area. Due to already existing development patterns in the County, the District and adjacent lands lie within the only possible landscape linkage between the Lake Skinner Core and the Lake Mathews multiple species reserve system. Maintaining a viable linkage between these areas is key to successful regional reserve design in western Riverside County and will contribute to the proposed Multiple Species Habitat Conservation Plan. Habitat acquisition proposed under the District Plan would contribute regionally to conservation within this viable linkage area. Land uses surrounding the project sites include residential developments, commercial centers, undeveloped land with native vegetation, and agricultural fields.

The District Plan identifies 19 covered projects that could result in take despite the avoidance and minimization measures proposed in the Plan. The covered projects are the residential developments of Crowne Hill, Roripaugh Ranch, SDI Communities, Silver Hawk Specific Plan, Costa-Pulte, Murrieta Springs, Rancho Miramosa, Parcel 5, Lincoln Ranch, Buie Communities, Los Alamos High School, San Diego/Rancho California Water District Pipeline No. 6, EM-20 Turnout and Transmission Main, San Diego Pipeline No.3 Bypass, and Nicholas Reservoir. In addition, in anticipation of an application, the County of Riverside projects have been included in the analysis: the extension of Butterfield Stage Road, widening portions of Winchester and Newport Roads, and the expansion of the French Valley Airport runway and the Southwest Justice Center.

Several of the covered projects have sought or will, in the future, seek a permit from the U.S. Army Corps of Engineers (Corps) pursuant to Section 404 of the Clean Water Act for effects to Corps-jurisdictional wetlands and non-wetland waters of the U.S. The District Plan does not address impacts to Corps jurisdictional areas. Federal wetland permitting would remain subject to the Fish and Wildlife Coordination Act and could result in additional avoidance, minimization and or mitigation measures not contemplated in this Plan.

Riverside County initiated development of the District Plan in coordination with the project proponents within and around Assessment District 161. The County formed the District to fund public infrastructure. The District is encumbered with approximately $85 million of debt. The County initiated a refinancing of the District 161 bond to lower the interest rate; however, the refinancing could not proceed without assurances of development repaying the debt. Therefore, to facilitate these assurances, the affected landowners, along with the County, developed the District Plan to provide for both assurance of conservation and development within the Plan boundary.

Take of covered species would occur during construction of single and multi-family housing, commercial and light industrial facilities, schools, parks, associated infra-structure, and public projects within a 3,094-acre footprint. Collectively, the projects would permanently eliminate 2,028 acres of suitable habitat for the covered species (659 acres of coastal sage scrub, 89 acres of chaparral, 7 acres of coast live oak woodland, 7 acres of riparian habitat, 3 acres of stream bed, 554 acres of non-native grassland, 10 acres of eucalyptus woodland, and 699 acres of agricultural land).

The Applicants propose to conserve 1,450 acres of habitat within the District Plan Area: 627 acres of coastal sage scrub, 61 acres of grassland, 77 acres chaparral, 10 acres of eucalyptus woodland , 568 acres of agricultural lands, 10 acres of coast live oak woodland, 33 acres of riparian habitat, 1 acre of pond, and 4 acres of stream bed. Habitat would be conserved on nine properties in three areas: the Johnson and Roripaugh Ranch area, along Warm Springs Creek, and east of Interstate 215 near Clinton Keith Road. The largest of these areas (674 acres) is on Johnson Ranch, of which 503 acres is used for ongoing agricultural operations. The Applicants propose to continue agriculture in its current footprint as a method of weed control.

The following table shows the anticipated effects to each proposed covered species in terms of acres of habitat destroyed and conserved:

Species | Habitat destroyed | Habitat conserved
California Orcutt grass ¹ | 4 | 0
Palmer's grapplinghook | 1,213 | 689
Long-spined spineflower | 1,213 | 689
Riverside fairy shrimp ¹ | 4 | 0
Quino checkerspot butterfly | 1,695 | 1,180
Western spadefoot toad | 1,230 | 734
San Diego horned lizard | 1,213 | 689
Orange-throated whiptail lizard | 1,213 | 689
Coastal California gnatcatcher | 748 | 703
Burrowing owl | 554 | 61
Southern California rufous-crowned sparrow | 660 | 627
Bell's sage sparrow | 748 | 704
Grasshopper sparrow | 554 | 61
Raptors | 1,219 | 1,341
¹ California Orcutt grass and Riverside fairy shrimp may be adversely affected by destruction of a small portion of the Skunk Hollow vernal pool watershed. We do not anticipate direct loss of individuals.

During the construction and operational phases of the covered projects, the Applicants propose to avoid and minimize impacts to covered species. These measures include best management practices; fire prevention; fuel management; access control; restriction of project footprints; dust control; restriction of lighting; monitoring of construction activities; revegetation of temporary disturbance areas; restrictions on the timing and nature of construction activities in and around occupied habitat; preconstruction surveys; buffers around riparian habitat; restrictions on use of invasive landscape species; and patrol, maintenance, and repair requirements.

The Applicants propose to mitigate for destruction of habitat of the covered species by conserving:

1. Approximately 1,180 acres of habitat for the Quino checkerspot butterfly (1,004 acres in the Skinner-Johnson metapopulation and 176 acres in the Warm Springs metapopulation).

2. Approximately 627 acres of coastal sage scrub and 77 acres of chaparral currently occupied by at least 50 pairs of coastal California gnatcatchers and providing habitat for the San Diego horned lizard, western spadefoot toad, orange-throated whiptail lizard, southern California rufous-crowned sparrow, Bell's sage sparrow, and raptors. The conserved habitat supports known populations of all of these species.

3. Approximately 46 acres of riparian and wetland habitats occupied by western spadefoot toads.

4. Approximately 61 acres of grassland, including areas with clay soils. This would conserve habitat for Palmer's grapplinghook, long-spined spineflower, western spadefoot toad, San Diego horned lizard, orange-throated whiptail lizard, burrowing owl, grasshopper sparrow, and raptors.

In addition, the Applicant's propose a Quino checkerspot butterfly research and propagation program linked to the Vista Murrieta High School curriculum. The District Plan identifies the program goals as: (1) To study Quino checkerspot butterfly habitat and develop management/restoration techniques for application to conservation sites in Riverside County; (2) to propagate Quino checkerspot butterflies for release into conservation areas; and (3) to develop education programs in the Murrieta Valley Unified School District and at the University of California, Riverside, pertaining to Quino checkerspot butterfly biology and habitat. The effort would include a 3-year habitat restoration research program, a perpetual quino checkerspot propagation program, an on-site research facility, and a curriculum program in the Murrieta Valley Unified School District.

The Applicants propose three habitat management phases for conserved lands: Interim, ongoing, and long-term. The interim management period would begin when an Applicant signs the Implementing Agreement and would end when management responsibilities are transferred to a conservation organization. Interim management would primarily involve protection of existing biological values and would be funded and provided by the property owner. The Applicants anticipate that most of the conservation areas would not have an interim management phase.

The ongoing management period would begin when the conservation lands are transferred from individual property owners to a conservation organization and would end when or if management responsibilities are secured through completion and implementation of the Riverside County Multiple Species Habitat Conservation Plan. Ongoing management would include exotic species monitoring and control, access control, monitoring of covered species, identification and ranking of restoration and enhancement opportunities, and implementation of a fire management plan and public outreach. Management of some of the properties would be funded by individual property owners.

Long-term management would begin when or if management of the conservation lands is secured through the Riverside County Multiple Species Habitat Conservation Plan. If the County Multiple Species Plan is not adopted, then the Applicants propose to fund long-term management of the conservation areas through (1) a fee paid by the Applicants, (2) creation of a County Service Area, or (3) creation of a master Home Owners Association. In this contingency, the management effort would be the same as in the ongoing management phase.

The Applicants propose to guarantee funding for ongoing and long-term management of conservation lands by providing a bond, letter of credit, or other financial instrument acceptable to the Fish and Wildlife Service prior to the initiation of ground disturbing activities. The Applicants relied on a Property Analysis Record (a database used by the Center for Natural Lands Management) to estimate ongoing and long-term management costs.

In the Environmental Assessment for our proposed action of issuing incidental take permits to the Applicants, we consider the environmental consequences of six alternatives. These alternatives are Implementation of the District Plan as Proposed, No Action, Reduced Coverage, District 161 Projects Only, District 161 Supplemental Assessment Area-wide Biological Mitigation, and Increased Conservation on Participating Properties.

Under the No Action Alternative, the Applicants would pursue incidental take authorization separately. Under the Reduced Coverage Alternative, burrowing owl and grasshopper sparrow would not be included as covered species on the incidental take permit. Under the District 161 Projects Only Alternative, only projects that lie entirely within Assessment District 161 would be included in the Plan. The District 161 Supplemental Assessment Area-wide Biological Mitigation Alternative contemplates conserving the area identified for conservation in the Subsequent Environmental Impact Report prepared by the County of Riverside in 1992 for District 161. The Increased Conservation on Participating Properties Alternative examines reduced impacts and a concomitant increase in conservation.

We provide this notice pursuant to section 10(a) of the Endangered Species Act and the National Environmental Policy Act of 1969 regulations (40 CFR 1506.6). We will evaluate the applications, associated documents, and comments submitted thereon to determine whether the applications meets the requirements of the National Environmental Policy Act regulations and section 10(a) of the Endangered Species Act. We will issue permits to the Applicants for incidental take of those species for which the permit issuance criteria are met. Our final permit decisions will be made no sooner than 60 days from the date of this notice.

Dated: July 17, 2000.
Elizabeth H. Stevens,
Deputy Manager, California/Nevada Operations Office, Sacramento, California.

[FR Doc. 00-18485 Filed 7-20-00; 8:45 am]

BILLING CODE 4310-55-P